DEPARTMENT OF ENERGY

Federal Energy Regulatory Commission

[Docket No. AD25-7-000]

Meeting the Challenge of Resource Adequacy in Regional Transmission Organization and Independent System Operator Regions; Supplemental Notice of Commissioner-Led Technical Conference

As announced in the February 20, 2025 Notice in this proceeding, the Federal Energy Regulatory Commission (Commission) will convene a Commissioner-led technical conference in the above-referenced proceeding. The two-day technical conference will take place from 9:00 a.m. to 4:00 p.m. Eastern Time on Wednesday, June 4, 2025, and Thursday, June 5, 2025, in the Kevin J. McIntyre Commission Meeting Room at the Federal Energy Regulatory Commission, 888 First Street NE, Washington, DC 20426.

The purpose of this technical conference is to discuss generic issues related to resource adequacy constructs, including the roles of capacity markets in the Regional Transmission Organization (RTO)/Independent System Operator (ISO) regions that utilize them and alternative constructs in RTO/ISO regions without capacity markets. The conference will start with a panel discussion on resource adequacy challenges across RTO/ISO regions, including regional differences. The remainder of the first day will include three panels specific to PJM Interconnection, L.L.C. (PJM) that will explore PJM's resource adequacy challenge, PJM states' perspectives, and additional perspectives on PJM's path forward. The second day will start with two panels specific to Midcontinent Independent System Operator, Inc. (MISO) that will explore MISO's resource adequacy challenge and perspectives on MISO's path forward. The remainder of the second day will include one panel to explore the resource adequacy challenge in ISO New England Inc. (ISO-NE) and New York Independent System Operator, Inc. (NYISO) and a final panel on the resource adequacy challenge in California Independent System Operator Corporation (CAISO) and Southwest Power Pool (SPP). The preliminary agenda for this conference is attached to this Supplemental Notice and provides more detail for each panel.

The Commission does not intend to discuss at this technical conference any specific proceeding pending before the Commission. The Commission will issue a further supplemental notice before the technical conference that will include a list of related proceedings that are pending before the Commission at the time of the technical conference and any revisions to the attached agenda.

All panelists must submit pre-filed statements outlining their views on the topics of the technical conference, which may address some or all of the questions associated with their panel that are most pertinent to them, and may also address related issues. Panelists must submit a pre-filed statement no later than Friday, May 16, 2025. Commission staff will post these statements on the FERC technical conference web page prior to the conference and in eLibrary. With the exception of opening statements on Panel 1, which may be delivered orally, all other panels will proceed immediately to questions from the Chairman and Commissioners.

All interested persons are invited to file pre-technical conference comments in eLibrary on the issues of the conference, including the questions listed in the attached agenda. Commenters need not answer all the questions but are encouraged to organize responses using the numbering and sequencing in the attached agenda.

The technical conference will be open to the public. Advance registration is not required, and there is no fee for attendance. Information will also be posted on the Calendar of Events on the Commission's website, www.ferc.gov, prior to the event. To stay apprised of issuances in this docket, there is an “eSubscription” link on the Commission's website that enables subscribers to receive email notification when a document is added to a subscribed docket(s).

The technical conference will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

Commission technical conferences are accessible under section 508 of the Rehabilitation Act of 1973. For accessibility accommodations, please send an email to accessibility@ferc.gov or call toll free 1-866-208-3372 (voice) or 202-208-8659 (TTY) or send a fax to 202-208-2106 with the required accommodations.

For more information about this technical conference, please contact Tim Bialecki at timothy.bialecki@ferc.gov or 202-502-8403. For legal information, please contact Nathan Lobel at nathan.lobel@ferc.gov or 202-502-8456. For information related to logistics, please contact Sarah McKinley at sarah.mckinley@ferc.gov or 202-502-8368.

Dated: April 3, 2025.
Carlos D. Clay,
Deputy Secretary.

[FR Doc. 2025-06082 Filed 4-8-25; 8:45 am]

BILLING CODE 6717-01-P